DEPARTMENT OF DEFENSE

Department of the Air Force

U.S. Air Force Scientific Advisory Board Notice of Meeting

AGENCY: Department of the Air Force, Air Force Scientific Advisory Board, DOD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force (USAF) Scientific Advisory Board (SAB) Summer Board meeting will take place on 15 June 2016 at the Arnold & Mabel Beckman Center, located at 100 Academy Drive in Irvine, CA 92617. The meeting will occur from 8:00 a.m.-4:00 p.m. on Wednesday, 15 June 2016. The session that will be open to the general public will be held from 8:30 a.m. to 9:00 a.m. on 15 June 2016. The purpose of this Air Force Scientific Advisory Board quarterly meeting is to finalize FY16 SAB studies, which consist of: Data Analytics to Support Operational Decision Making (DAN), Responding to Uncertain or Adaptive Threats in Electronic Warfare (AEW), and Airspace Surveillance to Support A2/AD Operations (ASV). In accordance with 5 U.S.C. 552b, as amended, and 41 CFR 102-3.155, a number of sessions of the USAF SAB Summer Board meeting will be closed to the general public because they will discuss classified information and matters covered by Section 552b of Title 5, United States Code, subsection (c), subparagraph (1).

Any member of the public that wishes to attend this meeting or provide input to the USAF SAB must contact the SAB meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the SAB meeting organizer at least five calendar days prior to the meeting commencement date. The SAB meeting organizer will review all timely submissions and respond to them prior to the start of the meeting identified in this noice. Written statements received after this date may not be considered by the SAB until the next scheduled meeting.

FOR FURTHER INFORMATION CONTACT: The SAB meeting organizer, Major Mike Rigoni at michael.j.rigoni.mil@mail.mil or 240-612-5504, United States Air Force Scientific Advisory Board, 1500 West Perimeter Road, Ste. #3300, Joint Base Andrews, MD 20762.

Henry Williams,
Acting Air Force Federal Register Liaison Officer.

[FR Doc. 2016-11176 Filed 5-11-16; 8:45 am]

BILLING CODE 5001-10-P